DEPARTMENT OF AGRICULTURE

Forest Service

Boise National Forest and Sawtooth National Forest; Idaho and Utah; Forest-Wide Invasive Plant Treatment Environmental Impact Statement

AGENCY: Forest Service, USDA.

ACTION: Notice of intent to prepare an environmental impact statement.

SUMMARY: Invasive plants have been identified as a major threat to the biological diversity and ecological integrity within and outside the Boise National Forest and the Sawtooth National Forest (the Forests). Invasive plants create many adverse environmental effects, including, but not limited to: Displacement of native plants; reduction in functionality of habitat and forage for wildlife and livestock; threats to populations of threatened, endangered and sensitive species; alteration of physical and biological properties of soil, including productivity; changes to the intensity and frequency of fires; and loss of recreational opportunities. Within the 2,110,408 acres of the of the Sawtooth National Forest and with the 2,203,703 acres of the Boise National Forest, approximately 247,603 acres are identified as being infested with invasive, non-native, and/or State-listed noxious weeds. These invasive plant infestations have a high potential to expand on lands within and adjacent to the Forests, degrading desired plant communities and the values provided by those communities. Forest lands are also threatened by `potential invaders', invasive plants that have not been found on the Forests but are known to occur in adjacent lands, Counties, or States. Infestations can be prevented, eliminated, or controlled through the use of specific management practices. A clear and comprehensive integrated invasive plant management strategy would allow for the implementation of timely and effective invasive plant management and prevention for projects and programs on the Forests. In the absence of an aggressive invasive plant management program, the number, density, and distribution of invasive plants on both Forests will continue to increase.

DATES: Comments concerning the scope of the analysis must be received by August 10, 2015. The draft environmental impact statement is expected April, 2016 and the final environmental impact statement is expected November, 2016.

ADDRESSES: Send written comments to Sawtooth National Forest—Supervisor's Office; Attn: Invasive Species Project; 2647 Kimberly Road East, Twin Falls, ID 83301. The office business hours for those submitting hand-delivered comments are 8:00 a.m. to 4:30 p.m. Monday through Friday, excluding holidays. Comments can be sent via facsimile to (208) 737-3236. Electronic comment should be submitted as part of the actual email message or as an attachment in Microsoft Word, rich text format (rtf) or portable document format (pdf) only and sent to comments-intermtn-sawtooth@fs.fed.us.

FOR FURTHER INFORMATION CONTACT: Carol Brown, Sawtooth Forest Environmental Coordinator; (208) 622-5371; via mail at Ketchum Ranger Station; P.O. Box 2356; Ketchum, ID 83340; or at the Ketchum Ranger Station located at 206 Sun Valley Road, Ketchum, Idaho.

Individuals who use telecommunication devices for the deaf (TDD) may call the Federal Information Relay Service (FIRS) at 1-800-877-8339 between 8 a.m. and 8 p.m., Eastern Time, Monday through Friday.

SUPPLEMENTARY INFORMATION:

Purpose and Need for Action

The overall purpose of the proposed action is to reduce the negative effects of invasive plants on the structure and function of native plant communities and on other natural resource values that can otherwise be adversely impacted by invasive plants and to update analysis of the effects of Forest-wide integrated invasive plant management. The proposal is in response to an underlying need to implement policy and direction provided at the National, Regional, State, and Forest levels, which includes control and containment of invasive plants on the Forests (Executive Order 13112—Invasive Species, 2004 National Invasive Species Strategy and Implementation Plan, 2008-2012 National Invasive Species Management Plan, 2009 Intermountain Region Invasive Species Management Strategy, 2005 Idaho Strategic Plan for Managing Noxious and Invasive Weeds, amended 2010 Boise National Forest Land and Resource Management Plan, and the amended 2012 Sawtooth National Forest Land and Resource Management Plan). The need of the proposed action is multifaceted: Invasive plants are diminishing the natural resource values of the Forest. Forest resources are negatively impacted by existing and expanding invasive plant species populations. These species are known to out-compete native plants, which can result in reduced productivity and biodiversity, habitat loss, and associated economic impacts. There must be a timely response to new infestations, new invasive plant species, and landscape scale disturbances. On the Forests, landscape level tree mortality and disturbance from insects and wildfires have increased and are likely to continue to increase the potential for invasive plant infestations. The Forests need the flexibility to treat expanded and/or newly identified infestations in a timely manner. Existing decisions for invasive plant management on the Forests do not address new species or provide priorities for managing new infestations. Updating these decisions would allow the Forests to satisfy the need to incorporate early detection and rapid response into the invasive plant management program. Existing invasive plant populations on the Forests require active and adaptive management. Invasive plant infestations already exist throughout the Forests and without management will likely increase in density and distribution. Active and adaptive integrated pest management is necessary to contain invasive plants within existing boundaries, reduce infestation densities, and retard the establishment of new infestations. Control efforts should be focused on infestations that can realize the greatest resource benefits—those with the highest risk of spread, those that have not become established, and those that have the best likelihood of success of control. New analysis and planning is needed to make available the most current tools and guide their best use. Rehabilitation of degraded landscapes can inhibit the spread and establishment of invasive plants. Appropriate rehabilitation efforts are a critical component of a fully functional invasive plant management program. The goals of rehabilitating degraded areas may include preventing new infestations, preventing the reoccurrence of eradicated infestations, and/or reducing the density and spread of existing infestations. Post-fire rehabilitation efforts may incorporate one or more of the established control techniques outlined in the Proposed Action. Federal, State, and Forest Service laws, regulation, policy and direction relating to invasive plant management must be implemented and followed. Implementing invasive species laws and policies requires aggressive invasive plant management. This analysis would identify the strategies that the Forests would use to comply with laws and policies pertaining to invasive plant management.

Proposed Action

The Forests propose to implement adaptive and integrated invasive plant management on current and potential infested areas Forest-wide, including the Sawtooth Wilderness, but excluding the Frank Church-River of No Return Wilderness. The overall management objective is to maximize the control of invasive and noxious weed species using an Integrated Weed Management (IWM) approach. Management activities would include inventory and assessment designed to support `Early Detection Rapid Response' (EDRR), control methods, implementation and effectiveness monitoring, and rehabilitation. Activities would be implemented with partners at the federal, state, and local level where opportunities exist. To provide for EDRR, the Forests would design a plan that allows treatment of invasive plant infestations located outside of currently identified infested areas. Infestations outside of currently identified areas may include new sites that arise in the future, or sites that currently exist, but have not been identified in Forest inventories to date. The intent of EDRR is to allow timely control, so that new infestations can be treated when they are small, preventing establishment and spread, while reducing the costs and potential side effects of treatment. The Proposed Action includes the use of ground-based and aerial herbicide applications, manual and mechanical, aquatic treatments, biological, and combinations of these treatments to treat noxious weeds. Proposed control methods would be based on integrated pest management principles and methods known to be effective for each target species. They include, but are not limited to, mechanical techniques, such as mowing and pulling; cultural practices, such as the use of certified noxious weed-free hay; biological control agents, such as pathogens, insects, and controlled grazing; and herbicides that target specific invasive plant species. Control methods could be employed alone or in combination to achieve the most effective control. Treatment methods would be based on the extent, location, type, and character of an infestation and would be implemented using project design features. A maximum of 20,000 acres for each Forest is proposed for treatment annually: 2,000 Acres biocontrol, 2000 acres manual/mechanical treatment, and 16,000 acres chemical treatment. Management priority would be based on factors such number and size of known infestations, proximity to vectors or susceptible habitat, and ability to outcompete desirable plant species. The priority of species to be treated would vary based on these factors and could change over time. These priorities would be used to guide selection of specific management activities for particular infestations.

Rehabilitation activities would be designed and implemented based on the conditions found in and around infested areas. Both active revegetation and passive revegetation (allowing plants on site to fill in a treated area) would be considered. Rehabilitation techniques would be assessed and implemented in order to promote native plant communities that are resistant to infestation by invasive plants.

Possible Alternatives

The `Current Management Alternative' would continue the same weed management programs, treatments, and levels of effort for controlling weeds on both Forests as are currently being used. These programs are limited to the treatments and methods analyzed in the original analyses and decisions. Under the Current Management Alternative, mechanical, biological, manual and localized herbicide use would continue. In addition cultural control, non-treatment practices that are part of the Forest Service IWM Program (including maintaining weed prevention, education, and public awareness programs) would continue to be implemented under the Current Management Alternative. Because of limited ability to rapidly respond to new treatment areas and updated methods, it is anticipated that continuation of the current weed treatment program would not keep pace with the spread of weeds on both Forests. New weed invaders would continue to establish populations that would likely increase in size unless a weed management program that is more comprehensive than the program associated with the Current Management Alternative is developed and implemented. Under this Alternative, it would likely not be possible to be consistent with management direction in all of the Management Areas on both Forests or to implement effectiveness monitoring and adaptive management as prescribed in the Boise amended 2010 Forest Plan or the Sawtooth amended 2012 Forest Plan. Expanding target weed species, treatment acres, and treatment methods in the under the Current Management Alternative would require further analysis and documentation. This would constrain Forest Service managers from responding in a timely and cost-effective manner to new weed infestations.

Responsible Officials

Boise Forest Supervisor and the Sawtooth Forest Supervisor.

Nature of Decision To Be Made

The Boise Forest Supervisor will decide whether or not to treat invasive plants on the Boise National Forest, excluding the Frank Church River of No Return Wilderness, and if so, what methods, how much treatment and what strategies (including adaptive management and EDRR) will be used to contain, control, or eradicate invasive plants.

The Sawtooth Forest Supervisor will decide whether or not to treat invasive plants on the Sawtooth National Forest, including the Sawtooth Wilderness, and if so, what methods, how much treatment and what strategies (including adaptive management and EDRR) will be used to contain, control, or eradicate invasive plants.

Permits or Licenses Required

Applicators must be licensed Idaho professional herbicide applicators per Idaho Department of Agriculture Rules Governing Pesticide Use and Application. (Idaho Code § 22-3404)

Scoping Process

This notice of intent initiates the scoping process, which guides the development of the environmental impact statement. Comments that would be most useful are those concerning developing or refining the proposed action, in particular are site specific concerns and those that can help us develop treatments that would be responsive to our goal to control, contain, or eradicate invasive plants. Public meetings are anticipated to be held following publication of the Draft Environmental Impact Statement

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: June 16, 2015.
Kit T. Mullen,
Sawtooth Forest Supervisor.

[FR Doc. 2015-15609 Filed 6-24-15; 8:45 am]

BILLING CODE 3410-11-P